DEPARTMENT OF DEFENSE

Department of the Navy

Notice of Intent To Grant Exclusive Patent License; Assure Bioassay Controls, Inc.

AGENCY: Department of the Navy, DoD.

ACTION: Notice.

SUMMARY: The Department of the Navy hereby gives notice of its intent to grant to Assure Bioassay Controls, Inc., a revocable, nonassignable, exclusive license in the United States to practice the Government-Owned invention(s) described in U.S. Patent No. 5,840,572 entitled “Bioluminescent Bioassay System” and U.S. Patent No. 5,565,360 entitled “Bioluminescent Bioassay System.”

DATES: Anyone wishing to object to the granting of this license has (15) days from the date of this notice to file written objections along with supporting evidence, if any.

ADDRESSES: Written objections are to be filed with the Office of Patent Counsel, Space and Naval Warfare Systems Center, Code 20012, 53510 Silvergate Ave., Room 103, San Diego, CA 92152-5765.

FOR FURTHER INFORMATION CONTACT: Mr. Michael A. Kagan, Space and Naval Warfare Systems Center, Code 20012, 53510 Silvergate Ave., Room 103, San Diego, CA 92152-5765, telephone 619-553-3001.

(Authority: 35 U.S.C. 207, 37 CFR Part 404.7(a))

Dated: March 28, 2005.
I.C. Le Moyne, Jr.,
Lieutenant, Judge Advocate General's Corps, U.S. Navy, Alternate Federal Register Liaison Officer.

[FR Doc. 05-6446 Filed 3-31-05; 8:45 am]

BILLING CODE 3810-FF-P[]